DEPARTMENT OF LABOR

Comment Request for Information Collection for the Evaluation of the Disability Employment Initiative Round 5 and Future Rounds

AGENCY: Office of Disability Employment Policy, Department of Labor.

ACTION: Notice.

SUMMARY: The Department of Labor, as part of its continuing effort to reduce paperwork and respondent burden, conducts a preclearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents is properly assessed. Currently, the Department of Labor is soliciting comments concerning the collection of data about the Evaluation of the Disability Employment Initiative Round 5 and Future Rounds. A copy of the proposed Information Collection Request (ICR) can be obtained by contacting the office listed in the addressee section of this notice.

DATES: Written comments must be submitted to the office listed in the addressee's section below on or before February 11, 2016.

ADDRESSES: You may submit comments by either one of the following methods: Email: hunter.cherise@dol.gov; Mail or Courier: Office of Disability Employment Policy, U.S. Department of Labor, Room S-1303, 200 Constitution Avenue NW., Washington, DC 20210, Attention: Cherise Hunter.

FOR FURTHER INFORMATION CONTACT: Cherise Hunter by telephone at 202-693-4931 (this is not a toll-free number) or by email at hunter.cherise@dol.gov. Copies of this notice may be obtained in alternative formats (Large print, Braille, Audio Tape, or Disc), upon request by calling (202) 693-7880 (this is not a toll-free number). TTY/TTD callers may dial (202) 693-7881 to obtain information or to request materials in alternative formats.

SUPPLEMENTARY INFORMATION:

I. Background

The proposed information collection activities described in this notice will provide data for an impact and implementation evaluation of the Disability Employment Initiative Round 5 and future rounds (DEI R5FR). The DEI was first funded by the U.S. Department of Labor (DOL), Employment and Training Administration (ETA) and Office of Disability Employment Policy (ODEP) in 2010. DEI was designed to improve educational, training and employment opportunities and outcomes of youth and adults with disabilities who are unemployed, underemployed and/or receiving Social Security Disability Income (SSDI), by refining and expanding already identified successful public workforce strategies; improving coordination and collaboration among employment and training and asset development programs implemented at state and local levels, including the expansion of the public workforce investment system's capacity to serve as Ticket to Work (TTW) Employment Networks (ENs) under the Social Security Administration's (SSA) TTW Program; and build effective community partnerships that leverage public and private resources to better serve individuals with disabilities and improve employment outcomes.

Thirty-one grants in Rounds 1-4 were awarded from September 2010 to September 2014 to state government agencies which distributed the funds to their local workforce investment areas' (LWIAs) American Job Centers (AJCs) to implement these activities. In 2014, ETA and ODEP provided $14,837,785 to six Round 5 grantees. Round 6 grantees were awarded cooperative agreements in October 2015. Since 2010, the Department of Labor has awarded over $95 million in grants to state workforce agencies. DEI Rounds 1-4 focused on the implementation of strategic service delivery strategies including integrated resource teams, blending and braiding of resources, use of the Guideposts for Success (youth grantees only), customized employment, self-employment and asset development strategies. R5FR will add career pathways to the DEI service package.

The DEI R5FR impact study will use two distinct quasi-experimental design (QED) study designs to determine the impact of DEI interventions on participant outcomes. The first study design is a matched comparison group design, with the treatment and comparison conditions established at the LWIA level. The second design will match similar participants within the Round 5 grantee treatment LWIAs, with the only primary difference being enrollment in the career pathways component versus enrollment in other programs and services. The implementation study will examine the context in which each grant is being implemented; grantee customer characteristics; implementation of the DEI requirements; what the grantee's DEI strategies are; program implementation challenges; and systems change.

This Federal Register Notice provides the opportunity to comment on three proposed data collection instruments that will be used in the DEI evaluation:

(1) Site visit/interviews protocols. Site visits will occur at three points in time and will collect information on the current status at baseline and change in grantees' workforce development system at follow-up; grantee customer characteristics; implementation of the grant requirements and strategies; program implementation challenges; and system change.

(2) Participant tracking system. For the purposes of tracking individual DEI Round 5 participants and collecting information that is not collected by Workforce Investment Act Standardized Record Data (WIASRD) or Wagner-Peyser (W-P), a Participant Tracking System (PTS) that is independent of the WIASRD and W-P systems will be used. The PTS will provide DEI customer tracking information from participating AJCs, such as participation in specific DEI Round 5 service delivery strategies. It will also allow for the identification of the DEI participants from each state and LWIA. Additionally, it will provide a way for DEI grantees to collect information without modifying their existing WIASRD or W-P systems.

(3) Survey on Disability Type, Activities of Daily Living and Selected Outcomes Related to Career Pathways will provide a descriptive picture of the range of disabilities that participants disclose, but will also provide a more accurate match across treatment and comparison groups in both impact analyses in terms of disability type and severity. It will also provide more accurate information on outcomes, particularly on academic outcomes that are currently difficult to access through existing administrative databases.

II. Review Focus

Currently, DOL is soliciting comments concerning the above data collection for the evaluation of DEI R5FR. DOL is particularly interested in comments that do the following:

• Evaluate whether the proposed collection of information is necessary for the proper performance functions of the agency, including whether the information will have practical utility;

• Evaluate the accuracy of the agency's burden estimate of the proposed information collection, including the validity of the methodology and assumptions used;

• Enhance the quality, utility, and clarity of the information to be collected; and

• Minimize the burden of the collection of information on those who are to respond, including through the use of appropriate automated, electronic, mechanical, or other technological collection techniques or other forms of information technology (for example, permitting electronic submissions of responses).

III. Current Actions

Agency: Department of Labor, Office of Disability Employment Policy.

Title: Evaluation of the Disability Employment Initiative Round 5 and Future Rounds.

Annual Site Visits

Total Respondents: Approximately 444. On-site or telephone interviews will be conducted with the DEI state lead, DRC, WIB directors, AJC managers, AJC staff members, and agency partners and employers. A site visit to one comparison LWIA and AJC in close proximity to each treatment LWIA will also be conducted. In treatment and comparison LWIAs, approximately eight to ten AJC DEI participants will be asked to participate in a customer focus group.

Frequency: Site visits will occur in the first, second year and third years to collect baseline (year 1), mid-term (year 2) and follow-up (year 3) data.

Average Time per Response: Partners and employers from small entities will participate in interviews that are 45 minutes in duration. All other interviews will be 60 minutes in duration.

Estimated Total Burden Hours: The cumulative hours of burden due to the site visits to DEI grantees for the entire project period is 1,143.

Estimated Hours of Burden Due to Site Visits
State | California | Kansas | Illinois | Massachusets | Minnesota | South Dakota | Total
DEI State Lead
# of Res | 1 | 1 | 1 | 1 | 1 | 1 | 6
Hrs/Res | 2 | 2 | 2 | 2 | 2 | 2 | 12
DRC
# of Res | 5 | 4 | 4 | 4 | 2 | 2 | 21
Hrs/Res | 2 | 2 | 2 | 2 | 2 | 2 | 12
AJC Staff
# of Res | 15 | 16 | 10 | 14 | 14 | 6 | 75
Hrs/Res | .5 | .5 | .5 | .5 | .5 | .5 | 3
Parents & Employers
# of Res | 4 | 4 | 4 | 4 | 4 | 4 | 24
Hrs/Res | .75 | .75 | .75 | .75 | .75 | .75 | 4.5
WIB Director
# of Res | 6 | 6 | 4 | 6 | 6 | 2 | 30
Hrs/Res | 1 | 1 | 1 | 1 | 1 | 1 | 6
Focus Groups
# of Res | 48 | 48 | 48 | 48 | 48 | 48 | 288
Hrs/Res | 1.5 | 1.5 | 1.5 | 1.5 | 1.5 | 1.5 | 9
Total Hours | 100.5 | 99 | 94 | 98 | 94 | 86 | 571.5
Cumulative Total Hours | 201 | 198 | 188 | 196 | 188 | 172 | 1143

Participant Tracking System

Frequency: Two times for treatment group customers and staff.

Total Responses: 2050 respondents.

Average Time per Response: 4.8 minutes for Participant Tracking System and 7.4 minutes for Survey of Disability Type, Activities of Daily Living and Selected Outcomes.

Estimated Total Burden Hours: 658.75 hours.

Survey of Disability Type, Activities of Daily Living and Selected Outcomes

Frequency: The survey will be administered on a quarterly basis (four times a year).

Total Responses: 2,050 respondents.

Average Time per Response: 7.4 minutes.

Estimated Total Burden Hours: 505.65 hours.

Estimated Total Burden Hours Due to the Participant Tracking System and Survey of Disability Type, Activities of Daily Living and Selected Outcomes
State | Number of respondents | Average burden time per response (minutes) | Total burden hours per year | Total burden hours
Participant Tracking System
California | 620 | 4.82 | 100 | 199.23
Kansas | 260 | 4.82 | 42 | 83.55
Illinois | 515 | 4.82 | 83 | 165.49
Massachusetts | 305 | 4.82 | 49 | 98.01
Minnesota | 275 | 4.82 | 44 | 88.37
South Dakota | 75 | 4.82 | 12 | 24.10
Survey of Disability Type, Activities, of Daily Living and Selected Outcomes
California | 620 | 7.40 | 76 | 152.93
Kansas | 260 | 7.40 | 32 | 64.13
Illinois | 515 | 7.40 | 64 | 127.03
Massachusetts | 305 | 7.40 | 38 | 75.23
Minnesota | 275 | 7.40 | 34 | 67.83
South Dakota | 75 | 7.40 | 9 | 18.50
Total | 2050 |  | 582 | 1164.4

Comments submitted in response to this comment request will be summarized and/or included in the request for Office of Management and Budget approval of the information collection request; they will also become a matter of public record.

Dated: January 5, 2016.
Jennifer Sheehy,
Deputy Assistant Secretary, Office of Disability Employment Policy, U.S. Department of Labor.

[FR Doc. 2016-00460 Filed 1-11-16; 8:45 am]

BILLING CODE 4510-FK-P